DEPARTMENT OF COMMERCE

National Oceanic and Atmospheric Administration

50 CFR Part 622

[Docket No. 120403249-2492-02]

RIN 0648-XE087

Snapper-Grouper Fishery of the South Atlantic; 2015 Recreational Accountability Measure and Closure for South Atlantic Golden Tilefish

AGENCY: National Marine Fisheries Service (NMFS), National Oceanic and Atmospheric Administration (NOAA), Commerce.

ACTION: Temporary rule; closure.

SUMMARY: NMFS implements accountability measures (AMs) for the golden tilefish recreational sector in the exclusive economic zone (EEZ) of the South Atlantic for the 2015 fishing year through this temporary rule. NMFS estimates recreational landings of golden tilefish in 2015 have exceeded the recreational annual catch limit (ACL). Therefore, NMFS closes the golden tilefish recreational sector in the South Atlantic EEZ on August 11, 2015. This closure is necessary to protect the golden tilefish resource.

DATES: This rule is effective 12:01 a.m., local time, August 11, 2015, until 12:01 a.m., local time, January 1, 2016.

FOR FURTHER INFORMATION CONTACT: Britni LaVine, NMFS Southeast Regional Office, telephone: 727-824-5305, email: britni.lavine@noaa.gov.

SUPPLEMENTARY INFORMATION: The snapper-grouper fishery of the South Atlantic includes golden tilefish and is managed under the Fishery Management Plan for the Snapper-Grouper Fishery of the South Atlantic Region (FMP). The FMP was prepared by the South Atlantic Fishery Management Council and is implemented by NMFS under the authority of the Magnuson-Stevens Fishery Conservation and Management Act (Magnuson-Stevens Act) by regulations at 50 CFR part 622.

The recreational ACL for golden tilefish is 3,019 fish. In accordance with regulations at 50 CFR 622.193(a)(2), if recreational landings of golden tilefish exceed the recreational ACL, the Assistant Administrator, NMFS (AA), will file a notification with the Office of the Federal Register to close the recreational sector for the remainder of the fishing year. 2015 landings data from the NMFS Southeast Fisheries Science Center indicate that the golden tilefish recreational ACL has been exceeded. Therefore, this temporary rule implements an AM to close the golden tilefish recreational sector of the snapper-grouper fishery for the remainder of the 2015 fishing year. As a result, the recreational sector for golden tilefish in the South Atlantic EEZ will be closed effective 12:01 a.m., local time August 11, 2015.

During the closure, the bag and possession limits for golden tilefish in or from the South Atlantic EEZ are zero. Additionally, during the following fishing year in 2016, NMFS will monitor recreational landings for a persistence in increased landings and, if necessary, reduce the length of the 2016 fishing season by the amount necessary to ensure landings do not exceed the recreational ACL, in accordance with 50 CFR 622.193(a)(2). The recreational sector for golden tilefish will reopen on January 1, 2016, the beginning of the 2016 recreational fishing season.

Classification

The Regional Administrator, Southeast Region, NMFS, has determined this temporary rule is necessary for the conservation and management of golden tilefish and the South Atlantic snapper-grouper fishery and is consistent with the Magnuson-Stevens Act and other applicable laws.

This action is taken under 50 CFR 622.193(a)(2) and is exempt from review under Executive Order 12866.

These measures are exempt from the procedures of the Regulatory Flexibility Act because the temporary rule is issued without opportunity for prior notice and comment.

This action responds to the best scientific information available. The Assistant Administrator for Fisheries, NOAA (AA), finds that the need to immediately implement this action to close the recreational sector for golden tilefish constitutes good cause to waive the requirements to provide prior notice and opportunity for public comment on this temporary rule pursuant to 5 U.S.C. 553(b)(B), because such procedures are unnecessary and contrary to the public interest. Such procedures are unnecessary because the AMs established by Regulatory Amendment 12 to the FMP (77 FR 61295, October 9, 2012) and located at 50 CFR 622.193(a)(2) have already been subject to notice and comment. The AMs authorize the AA to file a notification with the Office of the Federal Register to close the recreational sector for the remainder of the fishing year if recreational landings reach, or are projected to reach, the recreational ACL. All that remains is to notify the public of the recreational closure for golden tilefish for the remainder of the 2015 fishing year. Such procedures are contrary to the public interest because of the need to immediately implement this action to protect the golden tilefish resource, since time for notice and public comment will allow for continued recreational harvest and further exceedance of the recreational ACL.

For the aforementioned reasons, the AA also finds good cause to waive the 30-day delay in the effectiveness of this action under 5 U.S.C. 553(d)(3).

Authority: 16 U.S.C. 1801 et seq.

Dated: August 6, 2015.
Jennifer M. Wallace,
Acting Director, Office of Sustainable Fisheries, National Marine Fisheries Service.

[FR Doc. 2015-19701 Filed 8-6-15; 4:15 pm]

BILLING CODE 3510-22-P